ENVIRONMENTAL PROTECTION AGENCY

[FRL-8203-2]

Proposed Agreement for Settlement of Response Costs, Site Access, Institutionial Controls and Conditional Convenant Not To Sue for the Superior Waste Rock Superfund Site, Mineral County, MT

Environmental Protection Agency.

ACTION: Notice of proposed agreement; request for public comment.

SUMMARY: In accordance with the requirements of section 122(h)(1) of the Comprehensive Environmental Response Compensation, and Liability Act of 1980, as amended (“CERCLA”), 42 U.S.C. 9622(h)(1), notice is hereby given of the proposed administrative settlement under section 122(h) of CERCLA, 42 U.S.C. 9622(h) between the U.S. Environmental Protection Agency (“EPA”) and Mineral County Montana; the Town of Superior, Montana; and the Superior School District, Montana (collectively, “Settling Parties”). The Settling Parties will consent to and will not contest the authority of the United States to enter into this Agreement or to implement or enforce its terms. In return, the Settling Parties receive a Covenant Not to Sue from EPA. The EPA has incurred response costs totaling approximately $1,109,446.43 through February 28, 2006, and any additional Response Costs through the present date. EPA alleges that Settling Parties are Potentially Responsible Parties pursuant to Section 107(a) of CERCLA, 42 U.S.C. 9607(a), and are jointly and severally liable for Response Costs incurred and to be incurred at or in connection with the Site. EPA has reviewed the financial information submitted by Settling Parties and based upon this information, EPA has determined that none of the three Settling Parties has the financial ability to pay for Response Costs incurred and to be incurred at the Site. The Settling Parties agree to provide EPA access at all reasonable times to the Site and to any other property owned or controlled by the Settling Parties for the purpose of conducting any response activity related to the Site. The Settling Parties shall refrain from using the Site, or such other property, in any manner that would interfere with or adversely affect the implementation, integrity, ongoing operations and maintenance of the containment cell or protectiveness of the Site response. Such restrictions are defined as Institutional Controls, and are part of the subject Agreement. The Settling Parties agree to fulfill all Notice and Recording requirements associated with the terms of the subject Agreement.

The Settling Parties have executed and recorded certain Institutional Controls in the Office of the Clerk and Recorder of Mineral County, Montana and provided EPA with a certified copy of the original recorded Institutional Controls, showing the clerk's recording stamps. Notwithstanding any provision of this Agreement, EPA retains all of its access authorities and rights, including enforcement authorities related thereto, under CERCLA, the Resource Conservation and Recovery Act (RCRA), and any other applicable statutes or regulations. EPA's covenant not to sue is conditioned upon the satisfactory performance by the Settling Parties of their obligations under this Agreement. This covenant not to sue is also conditioned upon the veracity and completeness of the Financial Information provided to EPA by the Settling Parties. The Settling Parties recognize that this Agreement has been negotiated in good faith and that this Agreement is entered into without the admission or adjudication of any issue of fact or law.

DATES: Comments concerning this Agreement are due by August 24, 2006. The Agency will consider all comments received and may modify or withdraw its consent to the Agreement if comments received disclose facts or considerations that indicate that the Agreement is inappropriate, improper, or inadequate.

ADDRESSES: The Agency will place its response to any comments received as a result of this Notice, the proposed Agreement and additional background information relating to the Agreement in the Superfund Records Center where documents are available for public inspection. The EPA Superfund Record Center is located at 999 18th Street, Suite 300, 5th Floor, in Denver, Colorado. Comments and requests for a copy of the proposed Agreement should be addressed to Maureen O'Reilly, Enforcement Specialist, Environmental Protection Agency—Region 8, Mail Code 8ENF-RC, 999 18th Street, Suite 300, Denver, Colorado 80202-2466, and should reference the Superior Waste Rock Superfund Site, SSID# 08ER, Mineral County, Montana.

FOR FURTHER INFORMATION CONTACT: Steven Moores, Enforcement Attorney, Legal Enforcement Program, Environmental Protection Agency—Region 8, Mail Code 8ENF-L, 999 18th Street, Suite 300, Denver, Colorado 80202-2466, (303) 312-6857.

Dated: July 12, 2006.
Carol Rushin,
Assistant Regional Administrator, Office of Enforcement, Compliance and Environmental Justice, Region VIII.

[FR Doc. E6-11822 Filed 7-24-06; 8:45 am]

BILLING CODE 6560-50-P